DEPARTMENT OF JUSTICE

Office of Justice Programs

[OJP (OJJDP) Docket No. 1516]

Meeting of the Federal Advisory Committee on Juvenile Justice

AGENCY: Office of Juvenile Justice and Delinquency Prevention, Office of Justice Programs, Justice

ACTION: Notice of meeting.

SUMMARY: The Office of Juvenile Justice and Delinquency Prevention (OJJDP) announces the Spring meeting of the Federal Advisory Committee on Juvenile Justice (FACJJ), to be held in Washington, DC May 11-May 12, 2010.

Dates and Locations: The meeting times and locations are as follows: Tuesday, May 11, 2010 8:30 a.m. to 5:30 p.m. and Wednesday, May 12, 2010 8:30 a.m. to 12:00 p.m. The meeting will take place in the 3rd floor main conference room of the Office of Justice Programs, 810 Seventh Street NW., Washington, DC 20531.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to section 3(2)A of the Federal Advisory Committee Act (5 U.S.C. App.2), will meet to carry out its advisory functions under Section 223(f)(2)(C-E) of the Juvenile Justice and Delinquency Prevention Act of 2002. The FACJJ is composed of one representative from each state and territory. FACJJ duties include: reviewing Federal policies regarding juvenile justice and delinquency prevention; advising the OJJDP Administrator with respect to particular functions and aspects of OJJDP; and advising the President and Congress with regard to State perspectives on the operation of OJJDP and Federal legislation pertaining to juvenile justice and delinquency prevention. More information may be found at http://www.facjj.org.

Meeting Agenda

Tuesday, May 11, 2010

8:30 to 9:15 a.m—Welcome and Opening.

9:15-11:30 a.m.—Discussion of Juvenile Justice Issues with Coordinating Council Issue Team Members.

11:30-11:45 a.m—Overview of the 2010 Annual Report Drafts and Instructions for Review.

11:45 a.m.-1:15 p.m.—Working Lunch: FACJJ Subcommittee Meetings (closed).

1:15 pm-2:45 p.m.—Review and Discussion of Drafts—Small Groups.

2:45-3 p.m.—Break.

3-4 p.m.—Work on Annual Report—Small Groups.

4-5:15 p.m.—Group Report Outs and Next Steps.

5:15-5:30 p.m.—FACJJ Subcommittee Report Outs.

Wednesday, May 12, 2010

8-8:40 a.m—Welcome, Opening.

8:40-10 a.m.—Continuation of Work on Annual Reports.

10-10:15 a.m.—Break.

10:15-11:45 p.m.—Further Discussion of Annual Reports, Approval of the 2010 Annual Reports and Other Business.

11:45-Noon—Summary and Adjournment.

For security purposes, members of the FACJJ and of the public who wish to attend, must pre-register online at http://www.facjj.org by Friday, May 7, 2010. Should problems arise with web registration, call Daryel Dunston at 240-221-4343. [Note: these are not toll-free telephone numbers.] Photo identification will be required. Additional identification documents may be required. Space is limited.

Written Comments

Interested parties may submit written comments by Friday, May 7, 2010, to Robin Delany-Shabazz, Designated Federal Official for the Federal Advisory Committee on Juvenile Justice, OJJDP, at Robin.Delany-Shabazz@usdoj.gov. Alternatively, fax your comments to 202-307-2819 and call Joyce Mosso Stokes at 202-305-4445 to ensure its receipt. [Note: These are not toll-free numbers.] No oral presentations will be permitted. Written questions and comments from attendees may be invited.

Jeff Slowikowski,
Acting Administrator, Office of Juvenile Justice and Delinquency Prevention.

[FR Doc. 2010-9697 Filed 4-26-10; 8:45 am]

BILLING CODE 4410-18-P